ENVIRONMENTAL PROTECTION AGENCY

40 CFR Part 268

[RCRA-2004-0009; FRL-7854-2]

Land Disposal Restrictions: Site-Specific Treatment Standard Variance for Selenium Waste for Chemical Waste Management, Chemical Services, LLC

AGENCY: Environmental Protection Agency (EPA).

ACTION: Withdrawal of direct final rule.

SUMMARY: On November 19, 2004, the Environmental Protection Agency published a direct final rule to grant a site-specific treatment standard variance from the Land Disposal Restrictions (LDR) treatment standards to Chemical Waste Management, Chemical Services LLC (CWM) in Model City, New York. EPA also published an accompanying proposed rule to supplant this rule in the event EPA received any adverse comment on the direct final rule. This variance is for a selenium-bearing hazardous waste generated by Guardian Industries Corp. (Guardian), a glass manufacturing company. EPA has received a comment on this treatment variance that it deems adverse, and is withdrawing the direct final rule. Therefore, this site-specific treatment standard variance will not take effect on January 3, 2005 and CWM cannot treat the Guardian waste under a treatment standard variance. EPA will review and address all the comments received on this variance and will decide what action to take in a future Federal Register document. We will not institute a second comment period on this action.

FOR FURTHER INFORMATION CONTACT: For general information, contact the RCRA Call Center at 800-424-9346 or TDD 800-553-7672 (hearing impaired). In the Washington, DC, metropolitan area, call 703-412-9810 or TDD 703-412-3323. For more detailed information on specific aspects of this rulemaking, contact Juan Parra at (703) 308-0478 or parra.juan@epa.gov, Office of Solid Waste (MC 5302 W), U.S. Environmental Protection Agency, 1200 Pennsylvania Ave., Washington, DC 20460.

SUPPLEMENTARY INFORMATION: On November 19, 2004, EPA published a direct final rule (69 FR 67647) and a notice of proposed rulemaking (69 FR 67695) promulgating and proposing, respectively, amendments to grant a site-specific treatment standard variance from the Land Disposal Restrictions (LDR) treatment standards for a selenium-bearing hazardous waste to Chemical Waste Management, Chemical Services LLC. EPA indicated that it was promulgating this site-specific treatment variance as a direct final rule because it believed this action to be non-controversial. However, the Agency further stated that if it received any adverse comments by December 20, 2004 on the direct final rule, it would publish a timely withdrawal of the direct final rule in the Federal Register, and address the adverse comments and determine what action to take in a future Federal Register document.

List of Subjects in 40 CFR Part 268

Environmental Protection, Hazardous waste, Reporting and recordkeeping requirements.

Dated: December 16, 2004.
Thomas P. Dunne,
Assistant Administrator, Office of Solid Waste and Emergency Response.

Accordingly, the revision to 40 CFR 268.44 published in the Federal Register on November 19, 2004 (69 FR 67695), which was to become effective on January 3, 2005, is withdrawn.

[FR Doc. 04-28089 Filed 12-22-04; 8:45 am]

BILLING CODE 6560-50-P